FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 9, 2014.

A. Federal Reserve Bank of Minneapolis (Jacquelyn K. Brunmeier, Assistant Vice President) 90 Hennepin Avenue, Minneapolis, Minnesota 55480-0291:

1. John Van Dyke III, Menlo Park, California, as co-trustee with Mary Van Dyke, San Mateo, California, of the John & Mary Van Dyke Family Trust dated December 22, 1998, San Mateo, California (Van Dyke Trust), and as co-trustee with Alison Van Dyke, Menlo Park, California, of the John & Alison Van Dyke Family Trust, executed under declaration of trust dated May 10, 2001, Menlo Park, California, to individually retain voting shares of Heritage Bancshares Group, Inc., Willmar, Minnesota, and thereby indirectly retain voting shares of Heritage Bank, N.A., Spicer, Minnesota.

In addition, the Van Dyke Trust; Virginia Geiger, Bloomington, Minnesota (also known as Mary Virginia Geiger); Owen Geiger, Willmar, Minnesota; and Pearl Geiger, Minneapolis, Minnesota; have applied to retain voting shares of Heritage Bancshares Group, Inc., Willmar, Minnesota, as part of the Geiger family shareholder group acting in concert.

Board of Governors of the Federal Reserve System, May 20, 2014.
Michael J. Lewandowski,
Associate Secretary of the Board.

[FR Doc. 2014-11961 Filed 5-22-14; 8:45 am]

BILLING CODE 6210-01-P